NEIGHBORHOOD REINVESTMENT CORPORATION

Regular Board of Directors Meeting; Sunshine Act

Time and Date: 2 p.m.. Wednesday, September 22, 2010.

Place: 1325 G Street NW., Suite 800, Boardroom, Washington, DC 20005.

Status: Open.

Contact Person for More Information: Erica Hall, Assistant Corporate Secretary, (202) 220-2376, ehall@nw.org.

Agenda:

I. Call to Order.

II. Approval of the Minutes.

III. Summary Report of the Corporate Administration Committee.

IV. Summary Report of the Corporate Administration Committee.

V. Approval of the Minutes.

VI. Summary Report of the Finance, Budget and Program Committee.

VII. Approval of the Minutes.

VIII. Approval of the Minutes.

IX. Summary of the Audit Committee.

X. Approval of the Minutes.

XI. Approval of the Revised Minutes.

XII. Board Policy Regarding Elected Officials.

XIII. NeighborWorks Transition Grant_CHC.

XIV. Financial Report.

XV. Corporate Scorecard.

XVI. Chief Executive Officer's Quarterly Management Report.

XVII. Strategic Planning Discussion.

XVIII. Adjournment.

No. 06-2.

Erica Hill,
Assistant Corporate Secretary.

[FR Doc. 2010-24121 Filed 9-27-10; 8:45 am]

BILLING CODE 7570-02-M